DEPARTMENT OF THE INTERIOR

National Park Service

60-day Notice of Intention To Request Clearance of Collection of Information; Opportunity for Public Comment

AGENCY: National Park Service, Interior.

ACTION: Notice and request for comments.

SUMMARY: Under the Paperwork Reduction Act of 1995 and 5 CFR part 1320, Reporting and Record Keeping Requirements, the NPS invites public comments on (1) the need for the information including whether the information has practical utility; (2) the accuracy of the reporting burden estimate; (3) ways to enhance the quality, utility, and clarity of the information to be collected; and (4) ways to minimize the burden of the information collection on respondents, including the use of automated collection techniques or other forms of information technology.

The request is for extension of a currently approved information collection requirement approved by OMB and assigned clearance No. 1024-0037. Copies of the request and related forms and explanatory material may be obtained by contacting the individual named below.

DATES: Public comments will be accepted on or before June 1, 2001.

SEND COMMENTS TO: Dr. Francis P. McManamon, Manager, Archaeology and Ethnography Program, National Park Service, 1849 C Street NW., Room NC210, Washington, DC 20240. Street address: 800 North Capitol, NW., Suite 210, Washington, DC 20001. Phone 202/343-4101. Fax 202/523-1547.

If you wish to comment, you may submit your comments using several metods. You may mail comments to the postal address given here. You may fax your comments to the fax number given. You may also hand-deliver comments to the street address given here. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. However, we will not consider anonymous comments. We will make all submissions from organizations or businesses, and from individuals identifying themselves as representatives or officials of orgnizations or businesses, available for public inspection in their entirety.

SUPPLEMENTARY INFORMATION: Title: Application for and issuane of Federal Permits under the Archaeological Resources Potection Act and the Antiquities Act.

Department Form Numbers: DI-1926 (permit application), DI-1991 (permit form)

OMB Number: 1024-0037.

Expiration date: to be determined by OMB.

Type of request: Extension of a previously approved clearance.

Description of need: Information collected responds to statutory requirements that Federal agencies (1) issue permits to qualified individuals and institutions desiring to excavate or remove archeoloical resources from public or Indian lands, and (2) specify terms and conditions, including reporting requirements, in permits. The information collected is reported annually to Congress and is used for land management purposes.

Automated Data Collection: At the present time, there is no automated way to gather this information.

Description of Respondents: Individuals, businesses, academic institutions, tribes or tribal members, Federal agencies and other parties wishing to excavate or remove archaeological resources from public or Indian lands.

Estimated Average Number of Respondents: 700.

Estimated Average Burden Hours per Response: 2.5 hour.

Estimated Annual Reporting Burden. 1750.

Leonard E. Stowe,
Acting, Information Collection Clearance Officer, WASO Administrative Program Center, National Park Service.

[FR Doc. 01-7988 Filed 3-30-01; 8:45 am]

BILLING CODE 4310-70-M